DEPARTMENT OF THE INTERIOR

National Park Service

National Register of Historic Places; Weekly Listing of Historic Properties

Pursuant to (36 CFR 60.13(b,c)) and (36 CFR 63.5), this notice, through publication of the information included herein, is to apprise the public as well as governmental agencies, associations and all other organizations and individuals interested in historic preservation, of the properties added to, or determined eligible for listing in, the National Register of Historic Places from August 31, to September 4, 2009.

For further information, please contact Edson Beall via: United States Postal Service mail, at the National Register of Historic Places, 2280, National Park Service, 1849 C St. NW., Washington, DC 20240; in person (by appointment), 1201 Eye St., NW., 8th floor, Washington DC 20005; by fax, 202-371-2229; by phone, 202-354-2255; or by e-mail, Edson_Beall@nps.gov.

Dated: November 3, 2009.
J. Paul Loether,
Chief, National Register of Historic Places/ National Historic Landmarks Program.

Key: State, County, Property Name, Address/Boundary, City, Vicinity, Reference Number, Action, Date, Multiple Name.

ARIZONA

Pima County

Steam Pump Ranch, 10901 Oracle Rd., Oro Valley, 09000668, LISTED, 9/02/09. (Cattle Ranching in Arizona MPS.)

COLORADO

Montrose County

Denver & Rio Grande Western Railroad Boxcar No. 3132, Approx. 1 mi. N. by NE. of U.S. 50 at Cimarron, near Marrow Point Dam Rd., Curecanti National Recreation Center, Cimarron, 09000669, LISTED, 9/02/09.

FLORIDA

Lee County

Menge-Hansen Marine Ways, 5605 Palm Beach Blvd., Fort Myers, 09000670, LISTED, 9/02/09.

Manatee County

Helm, Johnson, House, 2104 53rd St., Bradenton, 09000671, LISTED, 9/02/09.

Orange County

Atha, S. Howard, House, 1101 W. Princeton St., Orlando, 09000672, LISTED, 9/02/09.

ILLINOIS

Cook County

Castlewood Terrace, 819-959 W. Castlewood Terr., Chicago, 09000232, LISTED, 9/03/09.

KANSAS

Dickinson County

Abilene Downtown Historic District, Roughly bounded by NE 4th, W. 1st, S. Walnut, and N. Olive St., Abilene, 09000673, LISTED, 9/01/09.

Douglas County

Plymouth Congregational Church, 925 Vermont St., Lawrence, 09000674, LISTED, 9/02/09. (Lawrence, Kansas MPS.)

Sedgwick County

Newbern-Gore House, 400 S. Roosevelt, Wichita, 09000675, LISTED, 9/02/09. (Residential Resources of Wichita, Sedgwick County Kansas 1870-1957.)

Woodburn House, 574 N. Brookfield, Wichita, 09000677, LISTED, 9/02/09. (Residential Resources of Wichita, Sedgwick County Kansas 1870-1957.)

MICHIGAN

Berrien County

Buchanan Downtown Historic District, Front St., between 117 W. and 256 E.; parts of Main St., between 108 and 210-212; Oak St. between 114 N., Buchanan, 09000678, LISTED, 9/02/09.

Wayne County

Dry Dock Engine Works—Detroit Dry Dock Company Complex, 1801-1803 Atwater St. and 1900 Atwater St., Detroit, 09000680, LISTED, 9/03/09.

MISSOURI

Howard County

Fayette Residential Historic District, Roughly bounded by Church St., W. Morrison St. and Cleveland Ave., Fayette, 09000681, LISTED, 9/03/09. (Historic and Architectural Resources of Fayette, Missouri.)

Jackson County

Dean, O.H., Building, 3625-3635 Main St., Kansas City, 09000682, LISTED, 9/03/09.

MONTANA

Mineral County

Point of Rocks Historic Transportation Corridor, 2 mi. W. of Alberton, Alberton vicinity, 09000683, LISTED, 9/04/09.

NORTH CAROLINA

Lenoir County

Kennedy Memorial Home Historic District, 2557 Ceder Dell La., Kinston vicinity, 09000684, LISTED, 9/03/09.

McDowell County

Brown, Henry Seawell, and Mary Jane English, Farmstead, 15956 US 221 N., Ashford vicinity, 09000685, LISTED, 9/03/09.

Rowan County

Sherrill, John Carlyle and Anita, House, 14175 NC 801, Mount Ulla, 09000704, LISTED, 9/01/09.

OKLAHOMA

Oklahoma County

Jewel Theater, 904 NE 4th St., Oklahoma City, 09000686, LISTED, 9/03/09.

Tulsa County

Sixth Street Commercial/Residential Historic District, Roughly along E. 6th St. from S. Peoria Ave. to the N./S. Alley between Quaker and Quincy Aves., Tulsa, 09000687, LISTED, 9/03/09.

RHODE ISLAND

Newport County

Stonybrook Estate Historic District, 501-521 Indian Ave. and 75 Vaucluse Ave., Middletown, 09000708, LISTED, 9/01/09.

SOUTH CAROLINA

Horry County

Conway Post Office, 428 Main St., Conway, 08000758, LISTED, 9/02/09. (Conway MRA.)

SOUTH CAROLINA

Richland County

Veterans Hospital, William Jennings Bryan Dorn Veterans Affairs Medical Center, University of South Carolina School of Medicine, Columbia, 09000062, LISTED, 9/02/09.

VIRGINIA

Arlington County

Arlington Ridge Park, NW corner of N. Meade St. and Marshall Dr., Arlington, 09000688, LISTED, 9/04/09. (Parkways of the National Capital Region MPS.)

King and Queen County

Providence Plantation and Farm, 1302 Roundabout Rte., Newtown, 09000689, LISTED, 9/03/09.

Norfolk Independent City

American Cigar Company, 1148 E. Princess Anne Rd., Norfolk, 09000690, LISTED, 9/03/09.

WASHINGTON

King County

Snoqualmie Falls, Snoqualmie R. below crossing of WA 522, Snoqualmie, 92000784, LISTED, 9/02/09.

[FR Doc. E9-26844 Filed 11-5-09; 8:45 am]

BILLING CODE P